DEPARTMENT OF AGRICULTURE

Natural Resources Conservation Service

Notice To Rescind Notice of Intent To Prepare an Environmental Impact Statement, Middle Fork Popo Agie River Watershed, Fremont County, WY

AGENCY: Natural Resources Conservation Service (NRCS).

ACTION: Rescind notice of intent to prepare an Environmental Impact Statement for the Middle Fork Popo Agie River Watershed, Fremont County, Wyoming.

SUMMARY: The Natural Resources Conservation Service is issuing this notice to advise the public that we are rescinding the notice of intent (NOI) to prepare an Environmental Impact Statement (EIS) on a proposal to address recurring flooding impacts along the Middle Fork Popo Agie River in and near the city of Lander, Fremont County, Wyoming, which was issued in the Federal Register on November 26, 2002 (Volume 67, Number 228).

FOR FURTHER INFORMATION CONTACT: Jay T. Mar, Assistant State Conservationist—Programs, Natural Resources Conservation Service, 100 East B Street, Room 3124, P.O. Box 33124, Casper, Wyoming 82602-5011, telephone (307) 233-6757.

SUPPLEMENTARY INFORMATION: The NRCS is rescinding the NOI to prepare an EIS for a project proposed to address recurring flooding impacts along the Middle Fork Popo Agie River in and near the city of Lander, Fremont County, Wyoming. The NOI is being rescinded because preliminary analysis of the proposed alternative indicates that impacts are likely not to be significant. NRCS has therefore determined an Environmental Assessment (EA) will be appropriate for this project.

Dated: February 25, 2008.
Jay T. Mar,
Assistant State Conservationist—Programs.

(This activity is listed in the Catalog of Federal Domestic Assistance under NO. 10.904, Watershed Protection and Flood Prevention, and is subject to the provisions of Executive Order 12372, which requires intergovernmental consultation with state and local officials.)

[FR Doc. E8-4265 Filed 3-4-08; 8:45 am]

BILLING CODE 3410-16-P